DEPARTMENT OF THE INTERIOR

Bureau of Indian Affairs

Submission of Information Collection to the Office of Management and Budget for Review Under the Paperwork Reduction Act

AGENCY: Bureau of Indian Affairs, Interior.

ACTION: Notice.

SUMMARY: In compliance with the Paperwork Reduction Act of 1995, this notice announces that the Bureau of Indian Affairs is submitting an information collection request to the Office of Management and Budget's (OMB) Office of Information and Regulatory Affairs for clearance and extension. The information collection, Tribal Reassumption of Jurisdiction over Child Custody Proceedings, is cleared under OMB Control Number 1076-0112 through June 30, 2009. We may not conduct or sponsor, and a person is not required to respond to, a collection of information unless it displays a currently valid OMB control number.

DATES: Submit comments on or before July 30, 2009.

ADDRESSES: Written comments may be sent to the Desk Officer for the Department of the Interior, Office of Management and Budget, Office of Regulatory Affairs via facsimile to (202) 395-5806, or by e-mail to OIRA_DOCKET@omb.eop.gov.

Send a copy of your comments to Sue V. Settles, Chief, Division of Human Services, Office of Indian Services, Bureau of Indian Affairs, Department of the Interior, 1849 C Street, NW., MIB Mail Stop 4513, Washington, DC 20240, or fax to (202) 208-2648 or e-mail to Sue.Settles@bia.gov.

FOR FURTHER INFORMATION CONTACT: Interested persons can obtain additional information regarding collection requests with no additional charge by contacting Sue V. Settles, Chief, Division of Human Services, at (202) 513-7621.

SUPPLEMENTARY INFORMATION:

I. Abstract

The Department has issued regulations prescribing procedures by which an Indian Tribe may reassume jurisdiction over Indian child proceedings when a State asserts any jurisdiction. Tribes have the right to pursue this alternative because this action is authorized by the Indian Child Welfare Act, Public Law 95-608, 92 Stat. 3069, 25 U.S.C. 1918. A 60-day notice for public comments was published in the Federal Register on February 27, 2009. No comments were received regarding this collection.

II. Request for Comments

The Department invites comments on:

(1) Whether the collection of information is necessary for the proper performance of the functions of the Bureau, including whether the information will have practical utility;

(2) The accuracy of the Bureau's estimate of the burden of the information collection, including the validity of the methodology and assumptions used;

(3) Ways to enhance the quality, utility, and clarity of the information to be collected; and,

(4) Ways to minimize the burden of the information collection on those who are to respond, including through the use of appropriate automated electronic, mechanical, or other collection techniques or forms of information technology.

Please submit your comments to the persons listed in the ADDRESSES section. Before including your address, phone number, e-mail address or other personally identifiable information, be advised that your entire comment—including your personally identifiable information—may be made public at any time. While you may request that we withhold your personally identifiable information, we cannot guarantee that we will be able to do so.

OMB has up to 60 days to approve or disapprove this information collection, but may respond after 30 days. To ensure maximum consideration, send your comments to OMB by the date listed in the DATES section near the beginning of this notice.

III. Data

OMB Control Number: 1076-0112.

Title: Tribal Reassumption of Jurisdiction over Child Custody Proceedings, 25 CFR 13.

Brief Description of Collection: The collection of information will ensure that the provisions of Public Law 95-608 are met. Any Indian Tribe that became subject to State jurisdiction pursuant to the provisions of the Act of August 15, 1953 (67 Stat. 588), as amended by title IV of the Act of April 11, 1968 (82 Stat. 73, 78), or pursuant to any other Federal law, may reassume jurisdiction over child custody proceedings. The collection of information provides data that will be used in considering the petition and feasibility of the plan of the Tribe for reassumption of jurisdiction over Indian child custody proceedings. We collect the following information: full name, address, and telephone number of petitioning Tribe or Tribes; a Tribal resolution; estimated total number of members in the petitioning Tribe or Tribes with an explanation of how the number was estimated; current criteria for Tribal membership; citation to provision in Tribal constitution authorizing the Tribal governing body to exercise jurisdiction over Indian child custody matter; description of Tribal court; copy of any Tribal ordinances or Tribal court rules establishing procedures or rules for exercise of jurisdiction over child custody matters; and all other information required by 25 CFR 13.11. Response is required to obtain or retain a benefit.

Type of Review: Renewal.

Respondents: Federally recognized Tribes who submit Tribal reassumption petitions for review and approval by the Secretary of the Interior.

Number of Respondents: 2.

Estimated Time per Response: 8 hours.

Frequency of Response: Annually.

Total Annual Burden Hours: 16 hours.

Dated: June 24, 2009.
Alvin Foster,
Acting Chief Information Officer—Indian Affairs.

[FR Doc. E9-15406 Filed 6-29-09; 8:45 am]

BILLING CODE 4310-4J-P